DEPARTMENT OF ENERGY

[GDO Docket No. EA-499]

Application for Authorization To Export Electric Energy; Elektron Power LLC

AGENCY: Grid Deployment Office, Department of Energy.

ACTION: Notice of application.

SUMMARY: Elektron Power LLC (the Applicant or Elektron) has applied for authorization to transmit electric energy from the United States to Mexico pursuant to the Federal Power Act.

DATES: Comments, protests, or motions to intervene must be submitted on or before July 27, 2023.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On May 2, 2023, Elektron filed an application with DOE (Application or App.) for export authority for a five-year term. App. at 1.

In its Application, Elektron states that it “does not own or control any electric generating or transmission facilities, nor does the Applicant have a franchised service area. Upon obtaining authorization to export power, Applicant will operate as a power marketer[ ] and broker and buy electric power at wholesale in the United States.” Id. at 2. Elektron also states it “contemplates making wholesale sales within the United States, and will seek all appropriate regulatory authorizations, including but not limited to authorization from the Federal Energy Regulatory Commission (“FERC”) to make sales of electric power at wholesale in interstate commerce at market-based rates.” Id. Elektron represents that it “may purchase the power to be exported from wholesale generators, electric utilities, power marketers, and power marketing agencies; or may return to Mexico energy transmitted to but not sold in the United States (e.g., from battery storage in the U.S.). Applicant will have title to any electricity transmitted to Mexico under the authorization sought in this Application.” Id. Elektron also states “the proposed exports will not impair or tend to impede the sufficiency of electricity supplies in the United States or the regional coordination of electric utility planning or operations.” Id. at 3.

The existing international transmission facilities to be utilized by the Applicant have been previously authorized by Presidential permits issued pursuant to Executive Order 10485, as amended, and are appropriate for open access transmission by third parties. See Id. at Exhibit G.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Elektron's Application should be clearly marked with GDO Docket No. EA-499. Additional copies are to be provided directly to Roberto Gomez, Elektron Power LLC, 939 Coast Blvd., 6F, La Jolla, CA 92037, roberto.gomez@me.com and Mark F. Sundback, Sheppard, Mullin, Richter & Hampton LLP, 2099 Pennsylvania Avenue NW, Suite 100, Washington, DC 20006, msundback@sheppardmullin.com. A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing Electricity.Exports@hq.doe.gov.

Signing Authority: This document of the Department of Energy was signed on June 21, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 21, 2023.
Treena V. Garrett,
Federal Register Liaison Officer, U.S. Department of Energy.

[FR Doc. 2023-13543 Filed 6-26-23; 8:45 am]

BILLING CODE 6450-01-P